SECURITIES AND EXCHANGE COMMISSION

Sunshine Act Meeting

Notice is hereby given, pursuant to the provisions of the Government in the Sunshine Act, Public Law 94-409, that the Securities and Exchange Commission will hold a Roundtable on Modernizing the Securities and Exchange Commission's Disclosure System on Wednesday, October 8, 2008, beginning at 9 a.m.

The roundtable will take place in the Auditorium of the Commission's headquarters at 100 F Street, NE., Washington, DC. The roundtable will be open to the public with seating on a first-come, first-served basis. Doors will open at 8:30 a.m. Visitors will be subject to security checks.

The roundtable will consist of an open discussion on the Commission's financial disclosure system, including the information needs of investors, public companies, and others and the capabilities of modern information technology to improve transparency and ease of use. The roundtable will be organized as two panels, each consisting of investors, issuers, academics, and other parties with experience with the Commission's financial disclosure system.

For further information, please contact the Office of the Secretary at (202) 551-5400.

Dated: September 29, 2008.
Florence E. Harmon,
Acting Secretary.

[FR Doc. E8-23283 Filed 10-1-08; 8:45 am]

BILLING CODE 8011-01-P